DEPARTMENT OF COMMERCE

International Trade Administration

[A-337-806]

Individual Quick Frozen Red Raspberries from Chile: Notice of Extension of Time Limit for 2003-2004 Administrative Review

AGENCY: Import Administration, International Trade Administration, Department of Commerce.

EFFECTIVE DATE: February 14, 2005.

FOR FURTHER INFORMATION CONTACT: Yasmin Bordas or Cole Kyle, AD/CVD Operations, Office 1, Import Administration, International Trade Administration, U.S. Department of Commerce, 14th Street and Constitution Avenue, NW, Washington, DC 20230; telephone (202) 482-3813 or (202) 482-1503, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and final results of review within 120 days after the date on which the preliminary results are published. If it is not practicable to complete the review within the time period, section 751(a)(3)(A) of the Act allows the Department to extend these deadlines to a maximum of 365 days and 180 days, respectively.

Background

On August 30, 2004, the Department published a notice of initiation of administrative review of the antidumping duty order on individual quick frozen red raspberries from Chile, covering the period July 1, 2003, through June 30, 2004. See Initiation of Antidumping and Countervailing Duty Administrative Reviews and Requests for Revocation in Part, (69 FR 52857). The preliminary results for this review are currently due no later than April 4, 2005.

Extension of Time Limits for Preliminary Results

We are currently analyzing sales information provided by the respondents in this review. Because the Department requires additional time to review, analyze, and possibly verify the sales information and to issue supplemental questionnaires, if necessary, it is not practicable to complete this review within the originally anticipated time limit (i.e., by April 4, 2005). Therefore, the Department is extending the time limit for completion of the preliminary results to not later than July 29, 2005, in accordance with section 751(a)(3)(A) of the Act.

We are issuing and publishing this notice in accordance with sections 751(a)(1) and 777(i)(1) of the Act.

Dated: February 8, 2005.
Barbara E. Tillman,
Acting Deputy Assistant Secretary for Import Administration.

[FR Doc. E5-597 Filed 2-11-05; 8:45 am]

BILLING CODE 3510-DS-S